DEPARTMENT OF HEALTH AND HUMAN SERVICES

Public Health Service

National Toxicology Program Center for the Evaluation of Risks to Human Reproduction; Announces an Upcoming Review of Methanol, Solicits the Nomination of Individuals Qualified To Serve on an Expert Panel, and Requests Public Input on Methanol

Background

The National Toxicology Program (NTP) and the National Institute of Environmental Health Sciences have established the NTP Center for the Evaluation of Risks to Human Reproduction (Federal Register pg. 68782, vol. 63, No 239). The purpose of the Center is to provide timely and unbiased, scientifically sound evaluations of human and experimental evidence for adverse effects on reproduction, including development, caused by agents to which humans may be exposed. The goals of the individual assessments are to (1) interpret for and provide to the general public information about the strength of scientific evidence that a given exposure or exposure circumstance poses a hazard to reproduction and the health and welfare of children; (2) provide regulatory agencies with objective and scientifically credible assessments of reproductive/developmental health effects associated with exposure to specific chemicals or classes of chemicals, including descriptions of any uncertainties associated with the available scientific evidence, and (3) identify knowledge gaps to help establish research and testing priorities.

Review of Methanol

Methanol (CASRN: 67-56-1) was selected for the second expert panel evaluation by the Center. Methanol is a commercially important, high production volume chemical (10.54 billion pounds, US production, 1993), with high potential for occupational, consumer, and environmental exposure. Methanol is used in chemical syntheses and as an industrial solvent. It is found in a variety of consumer products such as paints, antifreeze, cleaning solutions, and adhesives and is a by-product of sewage treatment, fermentation, and paper production. Methanol is used in race car fuels, and there is the potential for the expanded use of methanol as a vehicle fuel or fuel additive. There is a large toxicity database on reproductive and developmental effects of methanol, including a recently completed study in primates.

It is anticipated that the evaluation of this chemical will be conducted in Winter 2000, in the Washington, DC area. An expert panel of approximately 10 scientists, selected for their expertise in various aspects of reproductive and developmental toxicology and other relevant areas, will conduct the evaluation. The Expert Panel meeting will be open to the public with an opportunity scheduled for oral public comment.

Request for Individuals Qualified To Serve on the Expert Panel

The Center invites nominations from the public of qualified scientists to serve on the Methanol Expert Panel. Panelists are primarily drawn from the CERHR Expert Registry and/or other scientists who meet the criteria for listing in that registry. Criteria for the Expert Registry listing include: formal academic training and experience in a relevant field, publications in peer-reviewed journals, membership in relevant professional societies, certification by an appropriate scientific Board or other entity, and participation in similar committee activities. Scientists on the panel represent a wide range of expertise including developmental toxicology, fertility, general toxicology, genetic toxicology, pharmacokinetics, exposure assessment, and biostatistics. Nominations received by October 2, 2000 will be considered for the Methanol Expert Panel and/or inclusion in the Expert Registry. Nominations should be forwarded to: Dr. John Moore, CERHR, 1800 Diagonal Road, Suite 500, Alexandria, VA 22314-2808, Telephone: (703) 838-9440.

Request for Public Input

The Center invites input from the public on methanol, including toxicology information from completed or ongoing studies, and information on planned studies, as well as current production data, human exposure information, use patterns, and environmental occurrence. Written comments and submissions received by October 2, 2000 will be considered in the review. Comments should be forwarded to CERHR at the above address. An opportunity for oral public comments to the panel will be provided at the review meeting itself.

Request for Nominations for Future Reviews

Nominations of chemicals for future evaluations are also encouraged. Any individual or organization may nominate. Nominations should include the chemical name, Chemical Abstract Service registry number (if known), reason for the nomination, and references or articles on the chemical, when possible. The nominator's name, address, telephone number and e-mail address should be included with the nomination.

Nominations of chemicals can be made through the Center's web site (http://cerhr.niehs.nih.gov) or by mail to Dr. John Moore at the address listed above.

Further information about the NTP Center for the Evaluation of Risks to Human Reproduction can be obtained through the Center's web site, or by contacting:

Michael D. Shelby, Ph.D., Director, CERHR, NIEHS/NTP B3-09, P.O. Box 12233, Research Triangle Park, NC 27709, telephone 919-541-3455, facismile 919-541-4634

or

John A. Moore, D.V.M., D.A.B.T., Principal Investigator, CERHR, 1800 Diagonal Road, Suite 500, Alexandria, VA 22314, 708-838-9440, 703-684-2223

Dated: August 8, 2000.
Samuel H. Wilson,
Deputy Director, NIEHS.

[FR Doc. 00-20923 Filed 8-16-00; 8:45 am]

BILLING CODE 4140-01-P